DEPARTMENT OF AGRICULTURE

Natural Resources Conservation Service

Notice of Proposed Change to Section IV of the Field Office Technical Guide (FOTG) of the Natural Resources Conservation Service in Tennessee

AGENCY: Natural Resources Conservation Service (NRCS) in Tennessee, U.S. Department of Agriculture.

ACTION: Notice of Availability of proposed changes in Section IV of the FOTG of the NRCS in Tennessee for review and comment.

SUMMARY: It is the intention of NRCS in Tennessee to issue a revised conservation practice standard, Filter Strip (Code 393), in Section IV of the FOTG.

DATES: Comments will be received on or before June 21, 2000.

FOR FURTHER INFORMATION CONTACT: Inquire in writing to James W. Ford, State Conservationist, Natural Resources Conservation Service (NRCS), 675 U.S. Courthouse, 801 Broadway, Nashville, Tennessee 37203. Copies of the practice standards will be made available upon written request.

SUPPLEMENTARY INFORMATION: Section 343 of the Federal Agriculture Improvement and Reform Act of 1996 states that revisions made after enactment of the law to NRCS state technical guides used to perform highly erodible land and wetland provisions of the law shall be made available for public review and comment. For the next 30 days, the NRCS in Tennessee will receive comments relative to the proposed changes. Following that period, a determination will be made by the NRCS in Tennessee regarding disposition of those comments and a final determination of change will be made.

Dated: May 10, 2000.
James W. Ford,
State Conservationist, Natural Resources Conservation Service, Nashville, Tennessee.

[FR Doc. 00-12782 Filed 5-19-00; 8:45 am]

BILLING CODE 3410-16-M